ENVIRONMENTAL PROTECTION AGENCY

[FRL-9897-01-OA; EPA-HQ-OA-2022-0053]

National Environmental Justice Advisory Council; Notification for a Virtual Public Meeting.

AGENCY: Environmental Protection Agency (EPA).

ACTION: Notification for a public meeting.

SUMMARY: Pursuant to the Federal Advisory Committee Act (FACA), the U.S. Environmental Protection Agency (EPA) hereby provides notice that the National Environmental Justice Advisory Council (NEJAC) will meet on the date and time described below. The meeting is open to the public. Members of the public are encouraged to provide comments relevant to EPA investments for addressing Environmental Justice and related topics being considered by the NEJAC. For additional information about registering to attend the meeting or to provide public comment, please see “REGISTRATION” under SUPPLEMENTARY INFORMATION. Pre-registration is required.

DATES: The NEJAC will hold a two-day virtual public meeting on Wednesday, June 22, 2022, and Thursday, June 23, 2022, from approximately 1:00 p.m. to 5:00 p.m., Eastern Time, each day. A public comment period relevant to EPA investments and related topics will be considered by the NEJAC during the meeting on June 22, 2022 (see SUPPLEMENTARY INFORMATION). Members of the public who wish to speak during the public comment period must pre-register by 11:59 p.m., Eastern Time, June 15, 2022.

FOR FURTHER INFORMATION CONTACT: Fred Jenkins, NEJAC Designated Federal Officer, U.S. EPA; email: nejac@epa.gov; or telephone: (202) 566-0344. Additional information about the NEJAC is available at https://www.epa.gov/environmentaljustice/national-environmental-justice-advisory-council-meetings.

SUPPLEMENTARY INFORMATION: The primary purpose of this meeting is for the council to finalize advice and recommendations on EPA's investments to address environmental justice through the Justice40 Initiative. The meeting will also include updates from each of the NEJAC workgroups, a special public stakeholder panel session and an oral public comment period

The Charter of the NEJAC states that the advisory committee will provide independent advice and recommendations to the EPA Administrator about broad, crosscutting issues related to environmental justice. The NEJAC's efforts will include evaluation of a broad range of strategic, scientific, technological, regulatory, community engagement and economic issues related to environmental justice.

Registration: Individual registration is required for the virtual public meeting. No two individuals can share the same registration link. Information on how to register is located at https://www.epa.gov/environmentaljustice/national-environmental-justice-advisory-council-meetings. Registration to attend the meetings is available through the scheduled end time of the meeting day. Registration to speak during the public comment period will close at 11:59 p.m., Eastern Time, June 15, 2022. When registering, please provide your name, organization, city and state, and email address for follow up. Please also indicate whether you would like to provide public comment during the meeting, and whether you are submitting written comments at time of registration.

A. Public Comment

The NEJAC is interested in receiving public comments specific to EPA investments and the public's recommendation as to where investments are made. Every effort will be made to hear from as many registered public commenters during the time specified on the agenda. Individuals or groups making remarks during the oral public comment period will be limited to three (3) minutes. Please be prepared to briefly describe your comments; including your recommendations on what you want the NEJAC to advise the EPA to do. Submitting written comments for the record are strongly encouraged. You can submit your written comments in three different ways, (1.) by using the webform at https://www.epa.gov/environmentaljustice/forms/national-environmental-justice-advisory-council-nejac-public-comment, (2.) by sending comments via email to nejac@epa.gov and (3.) by creating comments in the Docket ID No. EPA-HQ-OA-2022-0053 at http://www.regulations.gov. Written comments can be submitted through July 6, 2022.

B. Information About Services for Individuals With Disabilities or Requiring English Language Translation Assistance

For information about access or services for individuals requiring assistance, please contact Fred Jenkins, via email at: nejac@epa.gov or contact by phone at (202) 566-0344. To request special accommodations for a disability or other assistance, please submit your request at least seven (7) working days prior to the meeting, to give EPA sufficient time to process your request. All requests should be sent to the email, listed in the FOR FURTHER INFORMATION CONTACT section.

Matthew Tejada,
Director for the Office of Environmental Justice.

[FR Doc. 2022-11762 Filed 6-1-22; 8:45 am]

BILLING CODE 6560-50-P